CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed implementation of AmeriCorps NCCC's (National Civilian Community Corps) Sponsor Survey. This survey was developed to support NCCC performance measurement for use in program development, funding, and evaluation. The survey instrument will be completed by NCCC project sponsors for each NCCC team following completion of each NCCC project. Completion of this information collection is not required to be considered for or obtain grant or resource funding support from AmeriCorps NCCC.

Copies of the information collection request can be obtained by contacting the office listed in the addresses section of this notice.

DATES: Written comments must be submitted to the individual and office listed in the ADDRESSES section by February 26, 2016.

ADDRESSES: You may submit comments, identified by the title of the information collection activity, by any of the following methods:

(1) By mail sent to: Corporation for National and Community Service National Civilian Community Corps; Attention Barbara Lane, Director Projects and Partnerships, Room 9805; 1201 New York Avenue NW., Washington, DC 20525.

(2) By hand delivery or by courier to the Corporation's mailroom at Room 8100 at the mail address given in paragraph (1) above, between 9:00 a.m. and 4:00 p.m. Monday through Friday, except Federal holidays.

(3) By fax to: (202) 606-3462, Attention: Barbara Lane, Director Projects and Partnerships.

(4) Electronically through www.regulations.gov. Individuals who use a telecommunications device for the deaf (TTY-TDD) may call (202) 606-3472 between 8:30 a.m. and 5:00 p.m. eastern time, Monday through Friday.

FOR FURTHER INFORMATION CONTACT: Barbara Lane, (202) 606-6867, or by email at blane@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

This National Civilian Community Corps Sponsor Survey originally developed this Sponsor Survey to evaluate the program's performance impact on sponsoring organizations and communities. This measurement instrument works to capture outputs and outcomes of the NCCC program on the organizations and communities it serves. This information collection serves as part of an overall AmeriCorps NCCC logic model to help measure the degree to which the program is addressing the statuary areas of national and community needs in a way that strengthens communities and builds leaders. The survey will be administered electronically to all project sponsors after each project is completed.

Current Action

This is a revision of the information collection request. The NCCC Sponsor Survey consists of between 34 and 37 questions, depending on which responses the respondents specify. All sponsors will receive their survey as a single instrument. For each team on each project, the organization that partnered with AmeriCorps NCCC will receive an individual survey.

Type of Review: Revised.

Agency: Corporation for National and Community Service.

Title: NCCC Sponsor Survey.

OMB Number: 3045-01385.

Agency Number: None.

Affected Public: The NCCC sponsor survey will be administered to the project sponsor for any NCCC service project. These sponsors apply to receive a NCCC team, typically made up of 8-12 Members, for a period of approximately six-eight weeks to implement local service projects. There are approximately 1,200 projects that NCCC perform each year. The project sponsors are uniquely able to provide the information sought in the NCCC Sponsor Survey.

Total Respondents: Based on the number of projects completed last fiscal year, NCCC expects to administer 2,400 surveys each fiscal year. These may not be unique responders as many sponsors receive teams on a rotating basis and thus may complete the survey more than once per year.

Frequency: Biweekly. Each sponsor will complete only one survey per team per project.

Average Time per Response: 30 minutes.

Estimated Total Burden Hours: 1,200 hours.

Total Burden Cost (capital/startup): None.

Total Burden Cost (operating/maintenance): None.

Comments submitted in response to this notice will be summarized and/or included in the request for Office of Management and Budget approval of the information collection request; they will also become a matter of public record.

Dated: December 22, 2015.
Jake Sgambati,
Director of Operations, National Civilian Community Corps.

[FR Doc. 2015-32603 Filed 12-24-15; 8:45 am]

BILLING CODE 6050-28-P